DEPARTMENT OF ENERGY

Federal Energy Regulatory Commission

[Docket No. IC01-542-000, FERC Form 542]

Proposed Information Collection and Request for Comments

January 18, 2001.

AGENCY: Federal Energy Regulatory Commission.

ACTION: Notice of proposed information collection and request for comments.

SUMMARY: In compliance with the requirements of section 3506(c)(2)(a) of the Paperwork Reduction Act of 1995 (Pub. L. No. 104-13), the Federal Energy Regulatory Commission (Commission) is soliciting public comment on the specific aspects of the information collection described below.

DATES: Consideration will be given to comments submitted on or before March 26, 2001.

ADDRESSES: Copies of the proposed collection of information can be obtained from and written comments may be submitted to the Federal Energy Regulatory Commission, Attn: Michael Miller, Office of the Chief Information Officer, CI-1, 888 First Street NE., Washington, DC 20426.

FOR FURTHER INFORMATION CONTACT: Michael Miller may be reached by telephone at (202) 208-1415, by fax at (202) 208-2425, and by e-mail at mike.miller@ferc.fed.us.

SUPPLEMENTARY INFORMATION: The information collected under FERC Form 542 “Gas Pipeline Rates: Rate Tracking” (OMB No. 1902-0070) is used by the Commission to implement the statutory provisions governed by Title IV of the Natural Gas Policy Act (NGPA), 15 U.S.C. 3301-3432, and sections 4, 5, and 16 of the Natural Gas Act (NGA) (15 U.S.C. 717-717w). These statutes empower the Commission to collect natural gas transmission cost information from interstate natural gas transporters for the purposes of verifying that these costs, which are passed on to pipeline customers, are just and reasonable. The Commission implements FERC 542 filing requirements in 18 CFR Parts 154.4, 154.7, 154.101, 154.107, 154.201, 154.207-.209 and 154.401-.403.

Interstate natural gas pipelines are required by the Commission to track their transportation associated costs to allow for the Commission's review and where appropriate, approval of the pass through of these costs to pipeline customers. Most of these FERC 542 tracking filings are monthly accountings of the cost of fuel or electric power necessary to operate compressor stations. Others track the costs of: (1) Gas Research Institute fees; (2) annual charges of various types, and (3) other types of rate adjustments.

Tracking filings may be submitted at any time or on a regularly scheduled basis in accordance with the pipeline company's tariff. Filings may be either: (1) Accepted; (2) suspended and set for hearing; (3) suspended, but not set for hearing; or (4) suspended for further review, such as a technical conference or some other type of Commission action.

Action: The Commission is requesting a three-year extension of the current expiration date, with no changes to the existing collection of data.

Burden Statement: Public reporting burden for this collection is estimated as:

Number of respondents annually (1) | Number of responses per respondent (2) | Average burden hours per response (3) | Total annual burden hours (1)×(2)×(3)
55 | 3 | 140 | 23,100

Estimated Cost Burden to Respondents: 23,100 hours/2,080 hours per year × $115,357 ¹ per year=$1,281,128. The cost per respondent is equal to $23,293.

¹ The cost per year per average employee estimate is based on the annual allocated cost per Commission employee for fiscal year 2001. The estimated $115,357 cost consists of approximately $92,286 in salary and $23,071 in benefits and overhead.

The reporting burden includes the total time, effort, or financial resources expended to assemble and disseminate the information including: (1) Reviewing the instructions; (2) developing, or acquiring appropriate technological support systems necessary for the purposes of collecting, validating, processing, and disseminating the information; (3) administration; and (4) transmitting, or otherwise disclosing the information.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's burden estimate of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

David P. Boergers,
Secretary.

[FR Doc. 01-2069 Filed 1-23-01; 8:45 am]

BILLING CODE 6717-01-M